DEPARTMENT OF HEALTH AND HUMAN SERVICES

Centers for Medicare & Medicaid Services

[CMS-1481-N]

Medicare Program; Emergency Medical Treatment and Labor Act (EMTALA) Technical Advisory Group (TAG) Meeting—May 1 Through May 2, 2006

AGENCY: Centers for Medicare & Medicaid Services (CMS), HHS.

ACTION: Notice of meeting.

SUMMARY: In accordance with section 10(a) of the Federal Advisory Committee Act (FACA) (5 U.S.C. Appendix 2), this notice announces the fourth meeting of the Emergency Medical Treatment and Labor Act (EMTALA) Technical Advisory Group (TAG). The purpose of the EMTALA TAG is to review regulations affecting hospital and physician responsibilities under EMTALA to individuals who come to a hospital seeking examination or treatment for medical conditions. The primary purpose of the fourth meeting is to enable the EMTALA TAG to hear additional testimony and further consider written responses from medical societies and other organizations on specific issues considered by the TAG at previous meetings. However, the public is permitted to attend this meeting and, to the extent that time permits and at the discretion of the Chairperson, the EMTALA TAG may hear comments from the floor.

DATES: Meeting Date: The meetings of the EMTALA TAG announced in this notice are as follows:

Monday, May 1, 2006, 9 a.m. to 5 p.m. e.s.t.

Tuesday, May 2, 2006, 9 a.m. to 5 p.m. e.s.t.

Registration Deadline: All individuals must register in order to attend this meeting. Individuals who wish to attend the meeting but do not wish to present testimony must register by April 24, 2006. Individuals who wish to attend the meeting and to present their testimony must register by April 10, 2006 and must submit copies of their testimony in writing by April 17, 2006. See Section IV for more detailed registration instructions.

Comment Deadline: Written comments/statements to be presented to the EMTALA TAG must be received by April 17, 2006.

Special Accommodations: Individuals requiring sign-language interpretation or other special accommodations should send a request for these services to Eric Ruiz by 5 p.m. on April 17, 2006 at the address listed below.

ADDRESSES: Meeting Address: The EMTALA TAG meeting will be held in Room 800 of the Hubert Humphrey Building, 200 Independence Avenue, SW., Washington, DC 20001.

Mailing and E-mail Addresses for Inquiries or Comments: Inquiries or comments regarding this meeting may be sent to—Eric Ruiz, Division of Acute Care, Centers for Medicare & Medicaid Services, Mail Stop C4-08-06, 7500 Security Boulevard, Baltimore, MD 21244-1850. Inquiries or comments may also be emailed to Eric.Ruiz@cms.hhs.gov or EMTALATAG@cms.hhs.gov.

Web Site Address for Additional Information: For additional information on the EMTALA TAG meeting agenda topics, updated activities, and to obtain Charter copies, please search our Internet Web site at (http://www.cms.hhs.gov/faca/07_emtalatag.asp).

FOR FURTHER INFORMATION CONTACT: Eric Ruiz, (410) 786-0247. George Morey, (410) 786-4653. Press inquiries are handled through the CMS Press Office at (202) 690-6145.

SUPPLEMENTARY INFORMATION:

I. Background

Sections 1866(a)(1)(I), 1866(a)(1)(N), and 1867 of the Social Security Act (the Act) impose specific obligations on Medicare-participating hospitals that offer emergency services. These obligations concern individuals who come to a hospital emergency department and request or have a request made on their behalf for examination or treatment for a medical condition. The Emergency Medical Treatment and Labor Act (EMTALA) applies to all these individuals, regardless of whether or not they are beneficiaries of any program under the Act. Section 1867 of the Act sets forth requirements for medical screening examinations for emergency medical conditions, as well as necessary stabilizing treatment or appropriate transfer.

Regulations implementing the EMTALA legislation are set forth at 42 CFR 489.20(l), (m), (q) and (r) and 489.24. Section 945 of the Medicare Prescription Drug, Improvement, and Modernization Act of 2003 (MMA) (Pub. L. 108-173), mandates that the Secretary establish a Technical Advisory Group (TAG) for advice concerning issues related to EMTALA regulations and implementation.

Section 945 of the MMA specifies that the EMTALA TAG—

• Shall review the EMTALA regulations;

• May provide advice and recommendations to the Secretary concerning these regulations and their application to hospitals and physicians;

• Shall solicit comments and recommendations from hospitals, physicians, and the public regarding implementation of such regulations; and

• May disseminate information concerning the application of these regulations to hospitals, physicians, and the public.

The EMTALA TAG, as chartered under section 945 of the MMA, is also governed by the provisions of the Federal Advisory Committee Act (FACA) (5 U.S.C. Appendix 2) for the selection of members and the conduct of all meetings.

In the May 28, 2004 Federal Register (69 FR 30654), we specified the statutory requirements regarding the charter, general responsibilities, and structure of the EMTALA TAG. That notice also solicited nominations for members based on the statutory requirements for the EMTALA TAG. In the August 27, 2004 Federal Register (69 FR 52699), we solicited nominations again for members in two categories (patient representatives and a State survey agency representative) for which no nominations were received in response to the May 28, 2004 Federal Register notice. In the March 15, 2005 Federal Register (70 FR 12691), we announced the inaugural meeting of the EMTALA TAG and the membership selection. In the May 18, 2005 Federal Register (70 FR 28541) and the September 23, 2005 Federal Register (70 FR 55903) we announced the second and third meetings of the EMTALA TAG, respectively, with a purpose to hear public testimony and consider written responses from medical societies and other organizations on specific issues considered by the EMTALA TAG at its previous meetings. The EMTALA TAG has established the following three subcommittees:

• On-Call Subcommittee (Chairperson, John Kusske, M.D.) charged with reviewing the testimony and other materials provided to the TAG to identify some specific issues related to on-call requirements.

• Action Subcommittee (Chairperson, Julie Nelson, J.D.) charged with identifying issues other than on-call issues.

• Framework Subcommittee (Chairperson, Charlotte Yeh, M.D.) charged with clarifying the historical context and conceptual basis for the TAG s recommendations and developing a document for review and approval by the TAG.

II. Meeting Format, Agenda, and Presentation Topics

A. Meeting Format

The initial portion of the meeting will convene at 9 a.m. on May 1, will involve opening remarks, and will be followed by a limited period of public testimony on issues related to EMTALA and its implementation. TAG members will have the opportunity to ask questions, prioritize the topics presented, and to conduct other necessary business. At the conclusion of each day's meeting, to the extent that time is available and at the discretion of the Chairperson, the public will be permitted a reasonable time to comment on issues being considered by the TAG.

B. Tentative Meeting Agenda

The tentative agenda for the EMTALA TAG meetings is as follows:

Day 1—Convenes at 9 a.m.

• Welcome, Call to Order, and Opening Remarks.

• Administrative and Housekeeping Issues.

• Public Testimony on issues related to EMTALA and its implementation.

• Subcommitte Reports.

• Public Comment.

Day 2—Convenes at 9 a.m.

• Subcommittee Reports (cont.).

• Public Comment.

C. Public Presentations

Only individuals who register and submit written testimony as specified in the Security Information section of this notice will be considered registered presenters. The time allotted for each presentation will be approximately 5 minutes and will be based on the number of registered presenters. Presenters will speak in their assigned order. If registered presenters are not given an opportunity to speak because of time restrictions, we will accept and present their written testimony to the TAG members. Comments from other participants (individuals who are not registered presenters) may be heard after the scheduled testimonies, if time permits.

If there are individuals who cannot attend the meeting but wish to submit comments/statements regarding issues related to the EMTALA TAG, we will accept and present their written comments/statements at the meeting if their comments/statements are received by postal mail or email at the address listed in the ADDRESSES section of this notice by April 17, 2006.

III. Registration Instructions

The Center for Medicare Management of CMS is coordinating meeting registration. While there is no registration fee, all individuals must register to attend due to limited seating. As specified in the DATES section of this notice, individuals who wish to attend the meeting but do not plan to present testimony must register by April 24, 2006. Individuals who would like both to attend and to present testimony on issues relating to the EMTALA TAG must register by April 10, 2006 and must state specifically in their registration request that they wish to present testimony for EMTALA TAG consideration. A copy of the presenter's written testimony must be received by CMS at the address specified in the ADDRESSES section of this notice by April 17, 2006.

You may register by e-mail to Marianne Myers at Marianne.Myers@cms.hhs.gov, by fax to the attention of Marianne Myers at (410) 786-0681, or by telephone at (410) 786-5962. All registration requests must include your name, name of the organization (if applicable), address, telephone and fax numbers, e-mail address (if available). Individuals will receive a registration confirmation with instructions for your arrival at the Hubert Humphrey Building. If seating capacity has been reached, registrants will be notified that the meeting has reached capacity. All registrants are asked to arrive at the Hubert Humphrey Building no later than 20 minutes before the scheduled starting time of each meeting session they wish to attend.

V. Security Information

Since this meeting will be held in a Federal government building, Federal security measures are applicable. As noted above, in planning your arrival time, we recommend allowing additional time to clear security. In order to gain access to the building, participants must bring a government-issued photo identification such as a driver's license or a passport and a copy of your registration information for the meeting. Access may be denied to persons without proper identification.

All persons entering the building must pass through a metal detector. In addition, all items brought to CMS, whether personal or for the purpose of demonstration or to support a presentation, are subject to inspection. We cannot assume responsibility for coordinating the receipt, transfer, transport, storage, set-up, safety, or timely arrival of any personal belongings or items used for demonstration or to support a presentation.

Authority: Section 945 of the Medicare Prescription Drug, Improvement, and Modernization Act of 2003 (MMA).

(Catalog of Federal Domestic Assistance Program No. 93.773, Medicare—Hospital Insurance; and Program No. 93.774, Medicare—Supplementary Medical Insurance Program.)

Dated: April 4, 2006.
Mark B. McClellan,
Administrator, Centers for Medicare & Medicaid Services.

[FR Doc. 06-3375 Filed 4-6-06; 8:45 am]

BILLING CODE 4120-01-P